DEPARTMENT OF HOUSING AND URBAN DEVELOPMENT

[Docket No. FR-4733-N-03]

Notice of Proposed Information Collection: Comment Request; CDBG Urban County Notice

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: August 5, 2002.

ADDRESSES: Interested persons are invited to submit comments regarding this proposal. Comments should refer to the proposal by name and/or OMB Control Number and should be sent to: Shelia Jones, Reports Liaison Officer, Department of Housing and Urban Development, 451 7th Street, SW, Room 7232, Washington, DC 20410.

FOR FURTHER INFORMATION CONTACT: Sue Miller, Director, Entitlement Communities Division, (202) 708-1577 (this is not a toll-free number) for copies of the proposed forms and other available documents:

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques or other forms of information technology, e.g., permitting electronic submission of responses.

This Notice also lists the following information:

Title of Proposal: Community Development Block Grant (CDBG) Urban County and New York Towns Qualification/Requalification Processes.

OMB Control Number, if applicable: 2506-0170.

Description of the need for the information and proposed use: The Housing and Community Development Act of 1974, as amended, at sections 102(a)(6) and 102(e) requires that any county seeking qualification as an urban county notify each unit of general local government within the county that such unit may enter into a cooperation agreement to participate in the CDBG program as part of the county. Section 102(d) of the statute specifies that the period of qualification will be three years. Based on these statutory provisions, counties seeking qualification or requalification as urban counties under the CDBG program must provide information to HUD on a triennial basis identifying the communities within the county participating as a part of the county for purposes of receiving CDBG funds. The population of included units of local government for each eligible urban county and New York town are used in HUD's allocation of CDBG funds for all entitlement and State CDBG grantees.

New York towns must undertake a similar process on a triennial basis because under New York state law, towns that contain incorporated units of general local government within their boundaries cannot qualify as metropolitan cities unless they execute cooperation agreements with all such incorporated units.

The New York towns qualification process must be completed prior to the qualification of urban counties so that any town that does not qualify as a metropolitan city will still have an opportunity to participate as part of an urban county.

Agency form numbers, if applicable: N/A.

Members of affected public: Urban counties and New York towns that are eligible as entitlement grantees of the CDBG program.

Estimation of the total numbers of hours needed to prepare the information collection including number of respondents, frequency of response, and hours of response: There are currently 158 qualified urban counties participating in the CDBG program that must requalify on a triennial basis. On average, 2 new counties qualify each year. The burden on new counties is greater than for existing counties that requalify. The Department estimates new grantees use, on average, 72 hours to review instructions, contact communities in the county, prepare and review agreements, obtain legal opinions, have agreements executed at the local and county level, and prepare and transmit copies of required documents to HUD. The Department estimates that counties that are requalifying use, on average, 40 hours to complete these actions. The time savings on requalification is primarily a result of a grantee's ability to use agreements with no specified end date. Use of such “renewable” agreements enables the grantee to merely notify affected participating units of government in writing that their agreement will automatically be renewed unless the unit of government terminates the agreement in writing, rather than executing a new agreement every three years.

Average of 2 new urban Counties qualify per year:

2 × 72 hrs = 144 hrs.

158 grantees requalify on triennial basis; average ann. num. of respondents = 53

53 × 40 hrs. = 2,120 hrs.

Total = 2,264 hrs.

There are 10 New York towns that requalify on a triennial basis.

They, too, may use “renewable” agreements that reduce the burden required under this process. The Department estimates that New York towns, on average, use 30 hours on a triennial basis to complete the requalification process.

10 towns requalify on triennial basis; average annual number of respondents = 3.3

3.3 × 30 = 100 hrs.

Total combined burden hours: 2,364 hrs.

This total number of combined burden hours can be expected to increase by 144 hours annually given the average of 2 new urban counties becoming eligible entitlement grantees each year.

Status of the proposed information collection: Existing collection number will expire September 30, 2002.

Authority: The Paperwork Reduction Act of 1995, 44 U.S.C. Chapter 35, as amended.

Dated: May 30, 2002.
Roy A. Bernardi,
Assistant, Secretary for Community, Planning and Development.

[FR Doc. 02-14091 Filed 6-5-02; 8:45 am]

BILLING CODE 4210-29-M